NATIONAL ARCHIVES AND RECORDS ADMINISTRATION

[NARA-2017-056]

Agency Information Collection Activities: Proposed Collection; Comment Request

AGENCY: National Archives and Records Administration (NARA).

ACTION: Notice of proposed extension request.

SUMMARY: NARA proposes to request an extension from the Office of Management and Budget (OMB) of approval to use a voluntary survey of visitors to the Public Vaults located at the National Archives in Washington, DC. We use this information to determine how the various components of the Public Vaults affect visitors' level of satisfaction with the Public Vaults and how effectively the venue communicates to them that records matter. And we use it to make changes that improve the overall visitor experience. We invite you to comment on this proposed information collection.

DATES: We must receive written comments on or before September 18, 2017.

ADDRESSES: Send comments to Paperwork Reduction Act Comments (MP), Room 4100; National Archives and Records Administration; 8601 Adelphi Road; College Park, MD 20740-6001, fax them to 301-837-0319, or email them to tamee.fechhelm@nara.gov.

FOR FURTHER INFORMATION CONTACT: Contact Tamee Fechhelm by telephone at 301-837-1694 or email at tamee.fechhelm@nara.gov with requests for additional information or copies of the proposed information collection and supporting statement.

SUPPLEMENTARY INFORMATION: Pursuant to the Paperwork Reduction Act of 1995 (Public Law 104-13), NARA invites the public and other Federal agencies to comment on proposed information collections. The comments and suggestions should address one or more of the following points: (a) Whether the proposed information collection is necessary for NARA to properly perform its functions; (b) our estimate of the burden of the proposed information collection and its accuracy; (c) ways we could enhance the quality, utility, and clarity of the information we collect; (d) ways we could minimize the burden on respondents of collecting the information, including through information technology; and (e) whether this collection affects small businesses. We will summarize any comments you submit and include the summary in our request for OMB approval. All comments will become a matter of public record. In this notice, we solicit comments concerning the following information collection:

Title: National Archives Public Vaults Survey.

OMB number: 3095-0062.

Agency form number: N/A.

Type of review: Regular.

Affected public: Individuals who visit the National Archives' Public Vaults in Washington, DC.

Estimated number of respondents: 1,050.

Estimated time per response: 10 minutes.

Frequency of response: On occasion (when an individual visits the Public Vaults in Washington, DC).

Estimated total annual burden hours: 175 hours.

Abstract: The information collection is prescribed by EO 12862 issued September 11, 1993, which requires Federal agencies to survey their customers concerning customer service. The general purpose of this voluntary data collection is to measure customer satisfaction with the Public Vaults and identify additional opportunities for improving customers' experience.

Swarnali Haldar,
Executive for Information Services/CIO.

[FR Doc. 2017-15212 Filed 7-19-17; 8:45 am]

BILLING CODE 7515-01-P